SMALL BUSINESS ADMINISTRATION

[License No. 04/04-0357]

Resolute Capital Partners Fund V-A, L.P.; Conflicts of Interest Exemption

Notice is hereby given that Resolute Capital Partners Fund V-A, L.P., 20 Burton Hills Blvd., Suite 430, Nashville, TN 37215, a Federal Licensee under the Small Business Investment Act of 1958, as amended (“the Act”), in connection with the financing of a small business concern, has sought an exemption under Section 312 of the Act and Section 107.730, Financings which Constitute Conflicts of Interest of the Small Business Administration (“SBA”) Rules and Regulations (13 CFR 107.730). Resolute Capital Partners Fund V-A, L.P. is seeking a written exemption from SBA for a proposed financing to Salt Dental Collective, 1245 SE 3rd Street, Suite A2, Bend, OR 97702.

The financing is brought within the purview of § 107.730(a) of the Regulations because Salt Dental Collective is an Associate of Resolute Capital Partners Fund V-A, L.P. because Associate Resolute Capital Partners Fund IV, L.P. owns a greater than ten percent interest in Salt Dental Collective, therefore this transaction is considered Financing which constitute conflicts of interest requiring SBA's prior written exemption.

Notice is hereby given that any interested person may submit written comments on this transaction within fifteen days of the date of this publication to the Associate Administrator, Office of Investment and Innovation, U.S. Small Business Administration, 409 Third Street SW, Washington, DC 20416.

United States Small Business Administration.
Bailey DeVries,
Associate Administrator, Office of Investment and Innovation.

[FR Doc. 2021-27397 Filed 12-16-21; 8:45 am]

BILLING CODE P